INTERNATIONAL TRADE COMMISSION

[Investigation No. 731-TA-856 (Final)]

Certain Ammonium Nitrate From Russia

AGENCY: United States International Trade Commission.

ACTION: Suspension of investigation.

SUMMARY: On June 16, 2000, the Department of Commerce published notice in the Federal Register of the suspension of its antidumping investigation on certain ammonium nitrate from Russia (65 FR 37759). The basis for the suspension is an agreement between the Department of Commerce and the Ministry of Trade of the Russian Federation accounting for substantially all imports of ammonium nitrate from Russia, wherein the Ministry of Trade has agreed to restrict exports of ammonium nitrate from all Russian producers/exporters to the United States and to ensure that such exports are sold at or above the agreed reference price. Accordingly, the U.S. International Trade Commission gives notice of the suspension of its antidumping investigation involving imports from Russia of certain ammonium nitrate, provided for in subheading 3102.30.00 of the Harmonized Tariff Schedule of the United States.

EFFECTIVE DATE: June 16, 2000.

FOR FURTHER INFORMATION CONTACT: Karen Taylor (202-708-4101), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov).

Authority: This investigation is being suspended under authority of title VII of the Tariff Act of 1930; this notice is published pursuant to section 207.40 of the Commission's rules (19 CFR 207.40).

Issued: June 23, 2000.
By order of the Commission.
Donna R. Koehnke,
Secretary.

[FR Doc. 00-16524 Filed 6-28-00; 8:45 am]

BILLING CODE 7020-02-P